DEPARTMENT OF TRANSPORTATION

Federal Aviation Administration

[Summary Notice No. PE-2001-40]

Petitions for Exemption; Summary of Petitions Received

AGENCY: Federal Aviation Administration (FAA), DOT.

ACTION: Notice of petitions for exemption received.

SUMMARY: Pursuant to FAA's rulemaking provisions governing the application processing, and disposition of petitions for exemption part 11 of Title 14, Code of Federal Regulations (14 CFR), this notice contains a summary of certain petitions seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before June 18, 2001.

ADDRESSES: Send comments on any petition to the Docket Management System, U.S. Department of Transportation, Room Plaza 401, 400 Seventh Street, SW., Washington, DC 20590-0001. You must identify the docket number FAA-200-XXXX at the beginning of your comments. If you wish to receive confirmation that FAA received your comments, include a self-addressed, and stamped postcard.

You may also submit comments through the Internet to http://dms.dot.gov. You may review the public docket containing the petition, any comments received, and any final disposition in person in the Dockets Office between 9:00 a.m. and 5:00 p.m., Monday through Friday, except Federal holidays. The Docket Office (telephone 1-800-647-5527) is on the plaza level of the NASSIF Building at the Department of Transportation at the above address. Also, you may review public dockets on the Internet at http://dms.dot.gov.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, D.C., on May 22, 2001.
Donald P. Byrne,
Assistant Chief Counsel for Regulations.

Petitions for Exemption

Docket No.: FAA-2000-8590.

Petitioner: Delta Air Lines, Inc.

Section of 14 CFR Affected: 14 CFR 121.339(a)(3).

Description of Relief Sought: To permit Delta to replace its approved pyrotechnic signaling device with a hand-held, high-intensity, stroboscopic light source (Aviation Distress Signal).

Docket No.: FAA-2001-9346.

Petitioner: BFGoodrich.

Section of 14 CFR Affected: 14 CFR 25.813(e).

Description of Relief Sought: To provide BFGoodrich with relief from the requirements of 14 CFR 25.813(e) pertaining to the installation of sliding pocket doors in partitions between passenger compartments in Bombardier BD-700-1A10 Global Express airplanes used for corporate transport.

Docket No.: FAA-2001-9458.

Petitioner: The Boeing Company.

Section of 14 CFR Affected: 14 CFR 25.785(h)(2), 25.807(d)(7), 25.813(e), and 25.853(d).

Description of Relief Sought: To permit business jet interiors to be designed for “private, not-for-hire use” on Boeing Model 737-800 airplanes.

[FR Doc. 01-13441 Filed 5-25-01; 8:45 am]

BILLING CODE 4910-13-M